DEPARTMENT OF VETERANS AFFAIRS

Privacy Act of 1974; System of Records

AGENCY: Office of Information and Technology (OIT), Department of Veterans Affairs (VA).

ACTION: Rescindment of a system of records notice.

SUMMARY: The Customer User Provisioning System (CUPS) is a Graphical User Interface (GUI) that provisions mainframe accounts. It is used for requesting and monitoring user access to the Austin Information Technology Center (AITC) computer resources. CUPS uses functional tasks to provide access to computer systems, data files, and other software tools. CUPS is available 24/7, allowing field facility CUPS Points of Contact (POC) to register employees by entering Infrastructure and Operations (IO) System Access Request (e9957), at any time. CUPS processes requests immediately, registering employees for access to specific computer systems and data in real time, seven days a week. CUPS System Managers of Record (SMR), and SMR designees, use CUPS to monitor registration activity. The business owner of CUPS is the VA Data Center Operations (DCO), AITC.

DATES: This system was decommissioned on 11/30/2022. Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to 87VA005OP-Customer User Provisioning System (CUPS)-VA. Comments received will be available at regulations.gov for public viewing, inspection or copies.

FOR FURTHER INFORMATION CONTACT: Stanley, Nina nina.stanley@va.gov (512) 364-4230; Adesokan, Kehinde Kehinde.Adesokan@va.gov (512) 567-3764; Tumuluri, Ganesh ganesh.tumuluri@va.gov (407) 480-6577.

SUPPLEMENTARY INFORMATION: CUPS should not have been a System of Record since it does not store personal information that is retrieved by any personal identifier within CUPS. The system has been decommissioned as of 11/30/2022 and there is no data remaining in the system. CUPS is a tool that creates virtual accounts. The accounts are created by data automatically retrieved from the Active Directory (i.e., first/last name, email, mail routing number) and Functional Task Code data manually taken from Form 9957 submissions. The information gathered is then passed to the mainframe system to electronically validate as a new or existing account. CUPS do not serve as a repository for records, it simply passes existing data from one system to another.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on March 18, 2023 for publication.

Dated: March 20, 2023.
Amy L. Rose,
Program Analyst, VA Privacy Service, Office of Information Security, Office of Information and Technology, Department of Veterans Affairs.

SYSTEM NAME AND NUMBER:

“Customer User Provisioning System-VA” (87VA005OP).

HISTORY:

81 FR 3862 January 22, 2016.

[FR Doc. 2023-05960 Filed 3-22-23; 8:45 am]

BILLING CODE P